DEPARTMENT OF THE INTERIOR

National Park Service

[NPS-WASO-NAGPRA-NPS0037217; PPWOCRADN0-PCU00RP14.R50000]

Notice of Inventory Completion: University of California, Riverside, Riverside, CA

AGENCY: National Park Service, Interior.

ACTION: Notice.

SUMMARY: In accordance with the Native American Graves Protection and Repatriation Act (NAGPRA), the University of California, Riverside has completed an inventory of human remains and associated funerary objects and has determined that there is a cultural affiliation between the human remains and associated funerary objects and Indian Tribes or Native Hawaiian organizations in this notice. The human remains and associated funerary objects were removed from Riverside, CA.

DATES: Repatriation of the human remains and associated funerary objects in this notice may occur on or after February 12, 2024.

ADDRESSES: Megan Murphy, University of California, Riverside, 900 University Avenue, Riverside, CA 92517-5900, telephone (951) 827-6349, email megan.murphy@ucr.edu.

SUPPLEMENTARY INFORMATION: This notice is published as part of the National Park Service's administrative responsibilities under NAGPRA. The determinations in this notice are the sole responsibility of the University of California, Riverside. The National Park Service is not responsible for the determinations in this notice. Additional information on the determinations in this notice, including the results of consultation, can be found in the inventory or related records held by the University of California, Riverside.

Description

Human remains representing, at minimum, one individual were removed from Riverside County, CA. In 1972, the human remains of at least one Native American individual were removed from archeological site CA-RIV-64 (also known as the Indian Wells Site) during an archeological field school for students of Cabrillo College and the University of California, Riverside. The human remains, identified as a human canine tooth, were not initially identified as human in the field, but were noted as being possibly human in the original catalog records. This identification went unnoticed until 2023 during consultation with Tribal representatives and an osteological consultant, who confirmed the tooth to be human. During consultation the Tribal representatives also identified associated funerary objects. The seven lots of associated funerary objects are one lot of ceramics, one lot of clay, one lot of lithic artifacts, one lot of animal bone, one lot of floral/organic materials, one lot of fire-altered rock, and one lot of geological materials.

Human remains representing, at minimum, one individual were removed from Riverside County, CA. In 1985, the human remains of at least one Native American individual were removed by the University of California, Riverside Archaeological Research Unit under direction of Philip Wilke during the excavation of Burns Ranch (also known as Rancho del Gato, and La Quinta Cove, archeological sites CA-RIV-1179 and CA-RIV-2827). The excavation was contracted by the Crystal Canyon Country Club ahead of the building of a housing property and golf course that would destroy the sites. Native American human remains of at least nine individuals were removed during excavation and a sample of human bone was submitted to the UCR Radiocarbon Laboratory which yielded an age of 720 +/−120 years BP. According to catalog records, 51 catalog numbers representing human bone and associated funerary objects, were reportedly removed from the collection to be reburied in La Quinta in 1990 at the request of the Tribe who was monitoring the project. During NAGPRA consultation in 2023, an osteological consultant identified additional human bone fragments and cremation elements in the collection which were not returned in 1990. Tribal representatives also identified associated funerary objects that were also not reburied in 1990. It is unclear how many individuals are still represented in the collection as the original catalogs do not differentiate between specific individuals and the human remains are too fragmentary to make a reliable determination beyond a minimum of one individual. The 15 associated funerary objects are two lots of animal bone, two lots of ceramics, two lots of lithic materials and tools, one lot of metal objects, one lot of shell beads, one lot of basketry, two lots of other organic/floral materials, one lot of geological materials, two lots of unmodified shell, and one lot of fire-altered rock.

Human remains representing, at minimum, one individual were removed from Riverside County, CA. In 1990, the University of California, Riverside Archaeological Research Unit was contracted by the Chateau Development Company to conduct an archeological assessment of a tract of land in the city of La Quinta ahead of plans for a residential development. During the archeological excavation, five archeological sites were identified including CA-RIV-1182, CA-RIV-3143, CA-RIV-3144, CA-RIV-3868, and CA-RIV-3882. A cremation locus was identified in the boundaries of CA-RIV-3144 and the human remains of one adult, male Native American were removed from the surface of the area. Following the conclusion of the archeological excavations, 2,648 cremated human bone fragments were returned to a local Tribe and were reburied nearby in La Quinta on August 16, 1990. The funerary objects buried with the individual, however, were not returned and remained in the collections housed at UCR. In 2023, during Tribal consultation, an osteological consulted identified additional human remains that were still present in the collections. Tribal representatives also identified a number of funerary objects present in the collections. The 16 associated funerary objects are three lots of ceramics, three lots of lithics, two lots of shell beads, three lots of faunal remains, three lots of floral material, and two lots of unmodified shell.

Human remains representing, at minimum, three individuals were removed from Riverside County, CA. In 1989, the University of California, Riverside Archaeological Research Unit was contracted by the Transpacific Development Company to conduct an archeological assessment of a tract of land at the northeast corner of Washington Street and State Highway 111 in the city of La Quinta. During the archeological excavation, which was in the vicinity of the historic Cahuilla village of Pal Kavinic, six archeological sites were identified including CA-RIV-2200, CA-RIV-2936, CA-RIV-3679, CA-RIV-3680, CA-RIV-3681, and CA-RIV-3682. One human tarsal bone was removed from CA-RIV-3682 but was not identified as human during the project analysis. In 2023, during Tribal consultation, an osteological consultant identified the bone as human. Additionally, the osteologist identified one cranial fragment and one juvenile long-bone fact from CA-RIV-3680 and one humerus fragment from CA-RIV-3681. Tribal representatives also identified associated funerary objects in the collection. The 19 associated funerary objects are three lots of animal bones, three lots of ceramic, two lots of lithics, one lot of metal, two lots of shell objects, two lots of floral material, one lot of other organic material, two lots of geological materials, two lots of unmodified shell, and one lot of fire-altered rock.

Human remains representing, at minimum, two individuals were removed from Riverside County, CA. In 1992, the Keith Companies, Archaeology Division, were contracted by the Shadowridge Creek Country Club to conduct a field survey for a parcel of land proposed for the development of a golf course and residential area. During the survey two prehistoric sites were identified, CA-RIV-785 and CA-RIV-4729, and surface materials were collected. At CA-RIV-785, archeologists observed a hearth feature and collected ceramic sherds, animal bone, and cremated human remains from the surface. They also collected surface materials from a small nearby scatter assigned the trinomial CA-RIV-4729. These collections were subsequently housed at UCR. In 1993, a Tribe requested that the Keith Companies return the cremated human bone and associated shell beads that were collected from CA-RIV-785 to the Tribe for reburial. On October 29, 1993, Tribal representatives for the Tribe reburied 118 human bone elements and five associated shell beads that were returned to them. The other materials in the collection, however, remained at UCR and Tribes were not given the opportunity to review them. In 2023, during NAGPRA consultation, an osteological consultant identified additional human remains in the collections that were not returned to the Tribe in 1993, including one cremated infant bone and cremated adult bone fragments. Tribal representatives also identified additional associated funerary objects in the collection that were not returned in 1993. The 10 associated funerary objects are two lots of ceramic, one lot of glass, two lots of lithic flakes and objects, one lot of metal, one lot of shell beads, two lots of animal bone, and one lot of floral material and charcoal.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological information, geographical information, historical information, kinship, oral tradition, and expert opinion.

Determinations

Pursuant to NAGPRA and its implementing regulations, and after consultation with the appropriate Indian Tribes and Native Hawaiian organizations, the University of California, Riverside has determined that:

• The human remains described in this notice represent the physical remains of eight individuals of Native American ancestry.

• The 67 objects described in this notice are reasonably believed to have been placed with or near individual human remains at the time of death or later as part of the death rite or ceremony.

• There is a relationship of shared group identity that can be reasonably traced between the human remains and associated funerary objects described in this notice and the Agua Caliente Band of Cahuilla Indians of the Agua Caliente Indian Reservation, California; Augustine Band of Cahuilla Indians, California; Cabazon Band of Cahuilla Indians (Previously listed as Cabazon Band of Mission Indians, California); Cahuilla Band of Indians; Los Coyotes Band of Cahuilla and Cupeno Indians, California; Morongo Band of Mission Indians, California; Ramona Band of Cahuilla, California; Santa Rosa Band of Cahuilla Indians, California; and the Torrez Martinez Desert Cahuilla Indians, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 12, 2024. If competing requests for repatriation are received, the University of California, Riverside must determine the most appropriate requestor prior to repatriation. Requests for joint repatriation of the human remains and associated funerary objects are considered a single request and not competing requests. The University of California, Riverside is responsible for sending a copy of this notice to the Indian Tribes and Native Hawaiian organizations identified in this notice.

Authority: Native American Graves Protection and Repatriation Act, 25 U.S.C. 3003, and the implementing regulations, 43 CFR 10.9, 10.10, and 10.14.

Dated: January 4, 2024.
Melanie O'Brien,
Manager, National NAGPRA Program.

[FR Doc. 2024-00432 Filed 1-10-24; 8:45 am]

BILLING CODE 4312-52-P